AGENCY FOR INTERNATIONAL DEVELOPMENT

Renewal of the Advisory Committee on Voluntary Foreign Aid

AGENCY: United States Agency for International Development.

ACTION: Notice of renewal of advisory committee.

SUMMARY: Pursuant to the Federal Advisory Committee Act, the Administrator of USAID has determined that renewal of the Advisory Committee on Voluntary Foreign Aid for a two-year period beginning January 10, 2013 is necessary and in the public interest.

FOR FURTHER INFORMATION CONTACT: Sandra Stonesifer, 202-712-4372.

Dated: January 11, 2013.
Sandra Stonesifer,
Executive Director, Advisory Committee on Voluntary Foreign Aid (ACVFA), U.S. Agency for International Development.

[FR Doc. 2013-00913 Filed 1-16-13; 8:45 am]

BILLING CODE P